DEPARTMENT OF TRANSPORTATION

Federal Aviation Administration

14 CFR Part 39

[Docket No. FAA-2017-1201; Product Identifier 2017-SW-068-AD; Amendment 39-19155; AD 2018-02-02]

RIN 2120-AA64

Airworthiness Directives; Airbus Helicopters

AGENCY: Federal Aviation Administration (FAA), Department of Transportation (DOT).

ACTION: Final rule; request for comments.

SUMMARY: We are adopting a new airworthiness directive (AD) for Airbus Helicopters Model AS350B, AS350BA, AS350B1, AS350B2, AS350B3, AS350D, AS355E, AS355F, AS355F1, AS355F2, AS355N, AS355NP, EC130B4, and EC130T2 helicopters. This AD requires inspecting the main rotor (M/R) mast jet oil lubrication hose (oil hose). This AD is prompted by a report of a blocked oil hose. The actions of this AD are intended to prevent an unsafe condition on these helicopters.

DATES: This AD becomes effective February 12, 2018.

We must receive comments on this AD by March 27, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2017-1201; or in person at Docket Operations between 9 a.m. and 5 p.m., Monday through Friday, except Federal holidays. The AD docket contains this AD, the European Aviation Safety Agency (EASA) AD, the economic evaluation, any comments received, and other information. The street address for Docket Operations (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy, Room 6N-321, Fort Worth, TX 76177.

FOR FURTHER INFORMATION CONTACT: Rao Edupuganti, Aviation Safety Engineer, Regulations and Policy Section, Rotorcraft Standards Branch, FAA, 10101 Hillwood Pkwy., Fort Worth, TX 76177; telephone (817) 222-5110; email rao.edupuganti@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued AD No. 2017-0089, dated May 17, 2017 (AD 2017-0089), to correct an unsafe condition for Airbus Helicopters Model AS350B, AS350BA, AS350BB, AS350B1, AS350B2, AS350B3, AS350D, AS355E, AS355F, AS355F1, AS355F2, AS355N, AS355NP, EC130B4, and EC130T2 helicopters. EASA advises that an oil hose part number (P/N) 704A34-412-015 (manufacturing P/N 4T13) was found blocked during unscheduled maintenance. EASA states an investigation showed the hose had become completely blocked with solder during the manufacturing process, resulting in a complete absence of lubrication from the direct oil jet to the M/R mast upper bearing. According to EASA this condition could lead to degradation of the M/R mast bearings, loss of transmission function, and subsequent loss of control of the helicopter. To correct this condition, EASA AD 2017-0089 requires a one-time inspection of the oil hose to determine if there is any blockage, replacing the oil hose and the M/R mast if the oil hose is blocked, and marking unobstructed hoses with an “x” after the P/N.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Airbus Helicopters has co-published as one document Emergency Alert Service Bulletin (EASB) No. 62.00.20 for non-FAA type-certificated AS550-series helicopters, EASB No. 62.00.23 for non-FAA type-certificated AS555-series helicopters, EASB No. 62.00.36 for AS355-series helicopters, EASB No. 62.00.39 for AS350-series helicopters, and EASB No. 62A015 for EC130 series helicopters, all Revision 1 and dated May 19, 2017. This service information specifies procedures for inspecting the oil hose for the presence of oil, inspecting the oil hose for blockage, and marking the hose if there is no blockage.

AD Requirements

This AD requires, within 30 hours time-in-service (TIS):

• Removing the upper end of the oil hose and inspecting the inside of the hose to determine if there is any oil present. If there is no oil present, before further flight, replacing the M/R mast and the oil hose;

• If there is oil present, within 30 hours TIS of inspecting for the presence of oil, removing the hose and determining if there is blockage in the hose, first using an air gun and then using cable ties or a piece of wire. If there is blockage in the hose, before further flight, replacing the M/R mast and the oil hose; and

• If there is oil present and there is no blockage, before further flight, permanently marking the hose with an “X” following the P/N.

This AD also prohibits installing an oil hose, P/N 704A34-412-015, on any helicopter unless it has been inspected as required by this AD.

Differences Between This AD and the EASA AD

The EASA AD applies to Airbus Helicopters Model AS350BB helicopters, this AD does not as that model is not type certificated in the U.S.

Costs of Compliance

We estimate that this AD affects 1,246 helicopters of U.S. Registry.

We estimate that operators may incur the following costs in order to comply with this AD. At an average labor rate of $85 per work-hour, inspecting the oil hose for oil and obstruction and marking the hose will require about one hour, for a cost per helicopter of $85 and a cost of $105,910 for the U.S. fleet.

If required, replacing the M/R mast and oil hose will require 16 hours and required parts will cost $29,940 for a cost per helicopter of $31,300.

FAA's Justification and Determination of the Effective Date

An unsafe condition exists that requires the immediate adoption of this AD without providing an opportunity for public comments prior to adoption. The FAA has found that the risk to the flying public justifies waiving notice and comment prior to the adoption of this rule because some of the required corrective actions must be accomplished within 30 hours TIS, a potentially short period of time for helicopters primarily used for air ambulance operations.

Therefore, we find good cause that notice and opportunity for prior public comment are impracticable. In addition, for the reason stated above, we find that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-02-02 Airbus Helicopters: Amendment 39-19155; Docket No. FAA-2017-1201; Product Identifier 2017-SW-068-AD.

(a) Applicability

This AD applies to Airbus Helicopters Model AS350B, AS350BA, AS350B1, AS350B2, AS350B3, AS350D, AS355E, AS355F, AS355F1, AS355F2, AS355N, AS355NP, EC130B4, and EC130T2 helicopters, certificated in any category, with a main rotor (M/R) mast jet oil lubrication hose (oil hose) part number (P/N) 704A34-412-015 (manufacturing P/N 4T13), except those marked with an X following the P/N, installed.

(b) Unsafe Condition

This AD defines the unsafe condition as a blocked oil hose. This condition could result in failure of the direct oil jet to lubricate the M/R mast upper bearing, degradation of the M/R mast bearings, loss of M/R transmission function, and subsequent loss of control of the helicopter.

(c) Effective Date

This AD becomes effective February 12, 2018.

(d) Compliance

You are responsible for performing each action required by this AD within the specified compliance time unless it has already been accomplished prior to that time.

(e) Required Actions

(1) Within 30 hours time-in-service (TIS), disconnect the upper end of the oil hose and inspect the inside of the hose for oil.

(i) If there is no oil inside the hose, before further flight, replace the M/R mast and oil hose.

(ii) If there is oil inside the hose, within 30 hours TIS, remove the oil hose and blow air through the oil hose using an air gun.

(A) If no air flows through the oil hose, before further flight, replace the M/R mast and oil hose.

(B) If air does flow through the oil hose, inspect the oil hose for any blockage by inserting two cable ties or a semi-rigid piece of wire with a diameter of 2 to 2.3 millimeters (mm) a minimum of 100 mm into each end of the oil hose.

(1) If there is any blockage, before further flight, replace the M/R mast and oil hose.

(2) If there is no blockage, re-identify the oil hose by vibro-etching the letter “X” after the P/N.

(2) Do not install an oil hose P/N 704A34-412-015 on any helicopter unless it has been inspected as required by this AD.

(f) Alternative Methods of Compliance (AMOCs)

(1) The Manager, Safety Management Section, Rotorcraft Standards Branch, FAA, may approve AMOCs for this AD. Send your proposal to: Rao Edupuganti, Aviation Safety Engineer, Regulations and Policy Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Airbus Helicopters Emergency Alert Service Bulletin No. 62.00.20, No. 62.00.23, No. 62.00.36, No. 62.00.39, and No. 62A015, all Revision 1 and dated May 19, 2017, which are co-published as one document and not incorporated by reference, contain additional information about the subject of this AD. For service information identified in this AD, contact Airbus Helicopters, 2701 N Forum Drive, Grand Prairie, TX 75052; telephone (972) 641-0000 or (800) 232-0323; fax (972) 641-3775; or at http://www.helicopters.airbus.com/website/en/ref/Technical-Support_73.html. You may review a copy of the service information at the FAA, Office of the Regional Counsel, Southwest Region, 10101 Hillwood Pkwy, Room 6N-321, Fort Worth, TX 76177.

(2) The subject of this AD is addressed in European Aviation Safety Agency (EASA) AD No. 2017-0089, dated May 17, 2017. You may view the EASA AD on the internet at http://www.regulations.gov by searching for and locating it in Docket No. FAA-2017-1201.

(h) Subject

Joint Aircraft Service Component (JASC) Code: 6230 Main Gearbox Mast.

Issued in Fort Worth, Texas, on January 8, 2018.
Lance T. Gant,
Director, Compliance & Airworthiness Division, Aircraft Certification Service.

[FR Doc. 2018-01196 Filed 1-25-18; 8:45 am]

BILLING CODE 4910-13-P